COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and deletes product(s) previously furnished by such agencies.

DATES: Comments must be received on or before: April 14, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

4210-01-387-1392—Rake, Collapsible, Forest Fire

Authorized Source of Supply: BESTWORK INDUSTRIES FOR THE BLIND, INC, Cherry Hill, NJ

Contracting Activity: DEFENSE LOGISTICS AGENCY, DLA TROOP SUPPORT

Mandatory for: Total Government Requirement

Distribution: B-List

Deletions

The following product(s) are proposed for deletion from the Procurement List:

Product(s)

NSN(s)—Product Name(s):

8105-01-662-7124—Can Liners—Can Liner, Linear Low Density, 44 Gallon, Clear

8105-01-662-6362—Can Liners—Can Liner, Linear Low Density, 23 Gallon, Clear

8105-01-662-7122—Can Liners—Can Liner, Linear Low Density, 32 Gallon, Clear

8105-01-662-6361—Can Liners—Can Liner, Linear Low Density, 10-15 Gallons, Clear

8105-01-662-7928—Can Liners—Can Liner, Linear Low Density, 40-45 Gallon, Clear

Authorized Source of Supply: Envision, Inc., Wichita, KS

Contracting Activity: GSA/FAS ADMIN SVCS ACQUISITION BR(2, NEW YORK, NY

NSN(s)—Product Name(s):

7350-00-988-6498—Cup, Paper, Disposable, Hot, White, 8 oz, with Handle

7350-00-205-1182—Cup, Paper, Disposable, Hot, White, 6 oz, with Handle

Authorized Source of Supply: The Lighthouse for the Blind in New Orleans, Inc., New Orleans, LA

Contracting Activity: STRATEGIC ACQUISITION CENTER, FREDERICKSBURG, VA

NSN(s)—Product Name(s):

7350-00-988-6498—Cup, Paper, Disposable, Hot, White, 8 oz, with Handle

7350-00-205-1182—Cup, Paper, Disposable, Hot, White, 6 oz, with Handle

Authorized Source of Supply: The Lighthouse for the Blind in New Orleans, Inc., New Orleans, LA

Contracting Activity: GSA/FSS GREATER SOUTHWEST ACQUISITI, FORT WORTH, TX

NSN(s)—Product Name(s):

8520-01-522-0832—Refill, Body and Hair Shampoo, Scented, 2000 mL

8520-01-522-0833—Refill, Body and Hair Shampoo, Scented, 1000 mL

8520-01-522-0836—Refill, Body and Hair Shampoo, Scented, 800 mL

Authorized Source of Supply: Travis Association for the Blind, Austin, TX

Contracting Activity: GSA/FSS GREATER SOUTHWEST ACQUISITI, FORT WORTH, TX

Michael R. Jurkowski,
Director, Business Operations.

[FR Doc. 2024-05566 Filed 3-14-24; 8:45 am]

BILLING CODE 6353-01-P